ENVIRONMENTAL PROTECTION AGENCY

40 CFR Part 81

[NV-FOA-124; FRL-7862-3]

Determination of Attainment for the Ozone and Carbon Monoxide National Ambient Air Quality Standards in Washoe County, NV

AGENCY: Environmental Protection Agency (EPA).

ACTION: Proposed rule.

SUMMARY: EPA is proposing to determine that the marginal one-hour ozone nonattainment area that includes all of Washoe County, Nevada has attained the 1-hour ozone National Ambient Air Quality Standard by the applicable attainment date (1993) and has continued to attain since that time. EPA is also proposing to determine that the moderate carbon monoxide nonattainment area that includes the Truckee Meadows area of Washoe County has attained the carbon monoxide National Ambient Air Quality Standard by the applicable attainment date (1995) and has continued to attain since that time. EPA is proposing this action to fulfill its obligations to make such determinations under sections 179(c), 181(b)(2), and 186(b)(2) of the Clean Air Act. The intended effect of this action will be to relieve the State of Nevada of the obligation to submit revisions to the State Implementation Plan to address additional requirements under the Clean Air Act for the next higher nonattainment classifications and to satisfy one of the five statutory criteria for redesignation of these areas from nonattainment to attainment.

DATES: Any comment on this proposal must arrive by February 22, 2005.

ADDRESSES: Please address your comments to Eleanor Kaplan, Air Planning Office (AIR-2), U.S. Environmental Protection Agency, Region IX, 75 Hawthorne Street, San Francisco, CA 94105-3901 or e-mail to kaplan.eleanor@epa.gov, or submit comments at http://www.regulations.gov.

FOR FURTHER INFORMATION CONTACT: Eleanor Kaplan, EPA Region IX at (415) 947-4147 or kaplan.eleanor@epa.gov.

SUPPLEMENTARY INFORMATION: Throughout this document, whenever “we”, “us”, or “our” are used, we mean the Environmental Protection Agency.

Table of Contents

I. Background

A. What National Ambient Air Quality Standards (NAAQS) Are Considered in Today's Proposed Determination of Attainment?

B. What Are the Current Designations and Classifications in Washoe County With Respect to the 1-Hour Ozone and Carbon Monoxide NAAQS?

C. How Do We Make Attainment Determinations?

II. Basis for EPA's Proposed Action

A. How Did We Determine That the Washoe County Monitoring Network Is Adequate To Provide the Data Necessary To Determine Whether the Area Has Attained the Ozone and Carbon Monoxide NAAQS?

B. How Did We Determine That Washoe County Attained the 1-Hour Ozone NAAQS by the Applicable Attainment Date and Has Continued To Attain Since Then?

C. How Did We Determine That the Truckee Meadows Portion of Washoe County Attained the Carbon Monoxide NAAQS by the Applicable Attainment Date and Has Continued To Attain Since Then?

III. EPA's Proposed Action

IV. Request for Public Comment

V. Administrative Requirements

I. Background

A. What National Ambient Air Quality Standards (NAAQS) Are Considered in Today's Proposed Determination of Attainment?

Ozone. Ozone is a gas composed of three oxygen atoms. It is not usually emitted directly into the air, but at ground level is created by a chemical reaction between oxides of nitrogen (NOX) and volatile organic compounds (VOC) in the presence of heat and sunlight. Ozone has the same chemical structure whether it occurs miles above the earth or at ground level and can be “good” or “bad,” depending on its location in the atmosphere. “Good” ozone occurs naturally in the stratosphere approximately 10 to 30 miles above the earth's surface and forms a layer that protects life on earth from the sun's harmful rays. In the earth's lower atmosphere, ground-level ozone is considered “bad.”

Ozone can irritate lung airways and cause inflammation much like a sunburn. Other symptoms include wheezing, coughing, pain when taking a deep breath, and breathing difficulties during exercise or outdoor activities. People with respiratory problems are most vulnerable, but even healthy people that are active outdoors can be affected when ozone levels are high.

Repeated exposure to ozone pollution for several months may cause permanent lung damage. Anyone who spends time outdoors in the summer is at risk, particularly children and other people who are active outdoors. Even at very low levels, ground-level ozone triggers a variety of health problems including aggravated asthma, reduced lung capacity, and increased susceptibility to respiratory illnesses like pneumonia and bronchitis.

The 1-hour ozone NAAQS is 0.12 parts per million (ppm), one-hour average, not to be exceeded on average more than 1 day per year over any 3-year period. See 40 CFR 50.9 and appendix H.

Carbon Monoxide. Carbon monoxide (CO) is a colorless and odorless gas, formed when carbon in fuel is not burned completely. It is a component of motor vehicle exhaust, which contributes about 60 percent of all CO emissions nationwide. Nonroad vehicles account for the remaining CO emissions from transportation sources.

CO can cause harmful health effects by reducing oxygen delivery to the body's organs (like the heart and brain) and tissues. The health threat from lower levels of CO is most serious for those who suffer from heart disease, like angina, clogged arteries, or congestive heart failure. For a person with heart disease, a single exposure to CO at low levels may cause chest pain and reduce that person's ability to repeated exposures and may contribute to other cardiovascular effects.

Even healthy people can be affected by high levels of CO. People who breathe high levels of CO can develop vision problems, reduced ability to work or learn, reduced manual dexterity, and difficulty performing complex tasks. At extremely high levels, CO is poisonous and can cause death.

CO NAAQS are for 1-hour and 8-hour periods and are not to be exceeded more than once per year. The 1-hour CO NAAQS is 35 ppm (40 mg/m3) and the 8-hour CO NAAQS is 9 ppm (10 mg/m3).

B. What Are the Current Designations and Classifications in Washoe County With Respect to the 1-Hour Ozone and Carbon Monoxide NAAQS?

Ozone. Under the Clean Air Act, as amended in 1990 (CAA or “Act”), EPA designated all of Washoe County as a nonattainment area for the 1-hour ozone NAAQS, effective January 6, 1992. See 56 FR 56694, at 56798 (November 6, 1991). In our 1991 final rule, EPA further classified Washoe County as a “marginal” nonattainment area for the 1-hour ozone NAAQS. Under section 181(a)(1), the Act establishes the end of 1993 as the attainment date for “marginal” ozone nonattainment areas, such as Washoe County.

Washoe County is located in the northwestern portion of the State of Nevada and encompasses a land area of approximately 6,600 square miles. Washoe County is bordered by the State of California to the west and the State of Oregon to the north. Within the State of Nevada, the counties of Humboldt, Pershing, Churchill, Lyon, and Storey and the city of Carson City bound Washoe County to the east and south.

In 1998, we found that Washoe County was attaining the 1-hour ozone NAAQS, based on 1994-1996 monitoring data, and listed it as one of the areas in the country where the 1-hour ozone NAAQS no longer applied. See 63 FR 31014, at 31065 (June 5, 1998). In 2000, in response to continuing litigation over the 8-hour ozone NAAQS, we reinstated the 1-hour ozone NAAQS in those areas in which we had found the standard to no longer apply, such as Washoe County. See 65 FR 45182, at 45244 (July 20, 2000). In that 2000 action, we also reinstated Washoe County's classification as a “marginal” nonattainment area for the 1-hour ozone NAAQS, effective January 16, 2001, see 65 FR 45829 (July 25, 2000), and also reinstated the 1993 attainment date.

Carbon Monoxide. Under section 107(d)(1)(C) of the Act, an area that lies entirely within Washoe County, i.e., hydrographic area #87 (named “Truckee Meadows”), and another that extends into a portion of Washoe County, i.e., hydrographic are #90 (named “Lake Tahoe Basin”), were designated nonattainment for the CO NAAQS by operation of law because they had been designated nonattainment at the time of enactment of the 1990 Clean Air Act Amendments. With respect to CO, this rulemaking only concerns “Truckee Meadows”. In a separate rulemaking, EPA redesignated “Lake Tahoe Basin” from nonattainment to attainment for the CO NAAQS. See 68 FR 69611 (December 15, 2003).

Pursuant to the Act as amended in 1990, EPA further classified Truckee Meadows as a “moderate” nonattainment area for the CO NAAQS. See 56 FR 56694, at 56798 (November 6, 1991) and 40 CFR part 81.329. Under section 186(a)(1), the Act establishes the end of 1995 as the attainment date for “moderate” CO nonattainment areas, such as Truckee Meadows.

Truckee Meadows lies in the far southern portion of Washoe County and encompasses a land area of approximately 200 square miles. The Truckee Meadows CO nonattainment area is comprised of three governmental units: Washoe County and two incorporated cities, Reno and Sparks.

C. How Do We Make Attainment Determinations?

Ozone. Pursuant to sections 179(c) and 181(b)(2) of the Act, we have the responsibility of determining within six months of the applicable attainment date whether, based on air quality data, the 1-hour ozone NAAQS has been attained in a given nonattainment area by that date. Determinations under section 179(c) of the Act are to be based upon an area's “air quality as of the attainment date”. Section 181(b)(2) is consistent with this requirement. As noted above, Washoe County's attainment date for the 1-hour ozone NAAQS was 1993.

Generally, we will determine whether an area's air quality is meeting the NAAQS for purposes of sections 181(b)(2) based upon data gathered at established state and local air monitoring stations (SLAMS) and national air monitoring sites (NAMS) in the nonattainment area and entered into the Air Quality System (AQS) database, formerly known as the Aerometric Information Retrieval System (AIRS). We will also consider air quality data from other air monitoring stations in the nonattainment area provided that the stations meet the federal monitoring requirements for SLAMS. We also review whether the area's monitoring network is adequate.

The 1-hour ozone NAAQS is 0.12 ppm, not to be exceeded on average more than 1 day per year over any 3-year period. See 40 CFR 50.9 and appendix H. Under our policies, we determine if an area has attained the 1-hour standard by calculating, at each monitor, the average number of days over the standard (i.e., “exceedance days”) per year during the preceding 3-year period. For this proposal, we have based our determination of attainment by the applicable attainment date on the average number of exceedance days per year for the period 1991 though 1993.

Carbon Monoxide. Section 179(c)(1) of the Act provides that attainment determinations are to be based on the “area's air quality as of the attainment date,” and section 186(b)(2) of the Act is consistent with this requirement but adds that CO air quality is to be documented for attainment determination purposes in terms of “design values”. Similar to the procedure described above for ozone, EPA makes the determination as to whether an area's air quality is meeting the NAAQS for CO based upon air quality data gathered at SLAMS and NAMS monitoring sites in the nonattainment area and entered into the AQS database. As for ozone, we also review whether the area's monitoring network is adequate.

This data is reviewed to determine the area's air quality status in accordance with 40 CFR 50.8, EPA policy guidance as stated in a memorandum from William G. Laxton, Director Technical Support Division, entitled “Ozone and Carbon Monoxide Design Value Calculations,” dated June 18, 1990, and EPA's “General Preamble for the Implementation of Title I of the Clean Air Act Amendments of 1990” (see 57 FR 13498, at 13531-13532, April 16, 1992).

The 8-hour and 1-hour CO design values are used to determine attainment of CO areas, and the design values are determined by reviewing 8 quarters of data, or a total of 2 complete calendar years of data for an area. The 8-hour design value is computed by first finding the maximum and second maximum (non-overlapping) 8-hour values at each monitoring site for each year of the two calendar years prior to and including the attainment date. Then the higher of the two “second high” values is used as the design value for the monitoring site, and the highest design value among the various CO monitoring sites represents the CO design value for the area.

The CO NAAQS requires that not more than one 8-hour average per year can equal or exceed 9.5 ppm (values below 9.5 are rounded down to 9 and are not considered exceedances). If an area has a design value that is equal to or greater than 9.5 ppm, this means that there was a monitoring site where the second highest (non-overlapping) 8-hour average was measured to be equal to or greater than 9.5 ppm in at least 1 of the 2 years being reviewed to determine attainment for the area. This indicates that there were at least two values above the NAAQS during 1 year at that site and thus the NAAQS for CO was not met. Conversely, an eight-hour design value of less than 9.5 ppm indicates that the area has attained the CO NAAQS. The one-hour CO design value is computed in the same manner. For this proposal, we have based our determination of attainment by the attainment date on the design values calculated using CO monitoring data from 1994 and 1995.

II. Basis for EPA's Proposed Action

A. How Did We Determine That the Washoe County Monitoring Network Is Adequate To Provide the Data Necessary To Determine Whether the Area Has Attained the Ozone and Carbon Monoxide NAAQS?

Our determination of whether an area has attained the NAAQS under CAA sections 179(c), 181(b)(2), and 186(b)(2) relies on monitored air quality data. Thus, the validity of a determination of attainment depends on whether the monitoring network adequately measures ambient levels of the relevant pollutants in the area. We evaluate 3 basic elements in determining the adequacy of an area's monitoring network. First, the network needs to meet the design requirements of 40 CFR part 58, appendix D. Under 40 CFR part 58, appendix D, EPA has established ambient air quality monitoring requirements and standards for SLAMS and for NAMS. These requirements and standards provide for operating schedules, data quality assurance, and for the design and siting of samplers. Also, the network needs to utilize monitoring equipment designated as reference or equivalent methods under 40 CFR part 53, and the agency or agencies operating the equipment need to have a quality assurance plan in place that meets the requirements of 40 CFR part 58, appendix A.

The Washoe County District Health Department, Air Quality Management Division (WCAQMD) operates the air pollutant monitoring network in Washoe County. WCAQMD's ozone and carbon monoxide network meets or exceeds our requirements described above and is therefore adequate for use in determining the attainment status for ozone and carbon monoxide. Data entered into the AQS database has been determined to meet federal monitoring requirements (see 40 CFR 50.8 and 50.9, 40 CFR part 50 appendices C and D, 40 CFR part 53, 40 CFR part 58 appendices A and D) and may be used to determine the attainment status of areas. We have included in the docket for this rulemaking a copy of the most recent comprehensive audit of WCAQMD's ambient air monitoring network. That audit found no problems in the network.

B. How Did We Determine That Washoe County Attained the 1-Hour Ozone NAAQS by the Applicable Attainment Date and Has Continued To Attain Since Then?

WCAQMD currently monitors 1-hour ozone on a continuous basis at 6 monitoring sites within Washoe County. Three of the 6 ozone monitoring stations within Washoe County are SLAMS/NAMS stations (Reno3, South Reno and Sparks); two are SLAMS stations (Lemmon Valley and Toll Road); and one is a special purpose monitor (SPM) (Incline Village).

As noted above, the applicable attainment date for Truckee Meadows “marginal” 1-hour ozone nonattainment area was 1993 and that we are evaluating attainment based on the data from 1991 through 1993. During the 1991-1993 period, only 4 of the current 6 ozone monitoring stations were in operation. Table 1 summarizes the ozone data collected at these 4 ozone monitoring stations during the 1991-1993 period and included in AQS.

Table 1.—Average Number of Ozone Exceedance Days per Year by Monitors in Washoe County, 1991-1993
[Summary of One-Hour Ozone Air Quality, Washoe County, 1991-1993]
Monitoring site name and AQS number | Average number of exceedance days per year, 1991-1993
Reno-Downtown (32-031-0016) | 0
South Reno (32-031-0020) | 0
Sparks-Fourth St. (32-031-1005) | 0
Lemmon Valley (32-031-2009) | 0
Source: EPA Air Quality System (AQS) Database.

As shown in Table 1, the average number of exceedance days per year is zero at all of the sites. Therefore, we propose to find that Washoe County attained the 1-hour ozone NAAQS by December 31, 1993, which is the applicable attainment date for this nonattainment area.

A review of data input to AQS indicates that Washoe County has continued to attain the 1-hour ozone NAAQS since the end of 1993. The highest 1-hour ozone concentration measured in Washoe County during the 1994 through 2003 period was a concentration of 0.12 ppm (rounded up from a measured value of 0.116 ppm) that was measured at the Sparks station in 1999. This highest value does not exceed the corresponding 1-hour ozone NAAQS of 0.12 ppm. A “quick look” report generated using AQS for the WCAQMD ozone monitoring stations for the 1991 to 2003 period is included in the docket for this rulemaking. Thus, in conclusion, we propose to find that Washoe County has attained the 1-hour ozone NAAQS by the applicable attainment date (1993) and has continued to attain since that time.

C. How Did We Determine That the Truckee Meadows Portion of Washoe County Attained the Carbon Monoxide NAAQS by the Applicable Attainment Date and Has Continued To Attain Since Then?

WCAQMD currently monitors CO on a continuous basis at 5 monitoring sites within Truckee Meadows. Four of the 5 CO monitoring stations within Truckee Meadows are SLAMS/NAMS stations (Reno3, South Reno, Galletti, and Sparks) and one is a SLAMS site (Toll Road).

As noted above, the applicable attainment date for Truckee Meadows “moderate” CO nonattainment area was 1995 and that we are evaluating attainment based on the data from 1994 and 1995. During the 1994-1995 period, only 4 of the current 5 CO monitoring stations were in operation. Table 2 summarizes the CO data collected at these 4 CO monitoring stations during the 1994-1995 period and included in AQS.

Table 2.—Carbon Monoxide Design Values for One-Hour and Eight-Hour Averages in Truckee Meadows, 1994-1995
[Summary of Carbon Monoxide Air Quality Data Truckee Meadows, Washoe County, Nevada 1994-1995]
Monitoring site name and AQS number | 2nd highest 8-hour concentration (ppm): 1994 | 2nd highest 8-hour concentration (ppm): 1995 | 2nd highest 8-hour concentration (ppm): Design value | 2nd highest 1-hour concentration (ppm): 1994 | 2nd highest 1-hour concentration (ppm): 1995 | 2nd highest 1-hour concentration (ppm): Design value
Reno-Downtown (32-031-0016) | 6.8 | 5.1 | 6.8 | 10.7 | 7.8 | 10.7
Reno-Galletti (32-031-0022) | 9.1 | 6.0 | 9.1 | 11.8 | 8.4 | 11.8
South Reno (32-031-0020) | 3.5 | 2.5 | 3.5 | 5.5 | 4.4 | 5.5
Sparks-Fourth St. (32-031-1005) | 7.0 | 5.5 | 7.0 | 11.6 | 9.9 | 11.6
Area Design Value | 8-Hour CO Design Value: 9.1. ppm |  |  | 1-Hour CO Design Value: 11.8 ppm
Source: EPA Air Quality System (AQS) Database.

As shown in Table 2, the CO design values are less than 9.5 ppm (eight-hour average) and 35.5 ppm (one-hour average) at all of the sites. Therefore, we propose to find that Truckee Meadows attained the CO NAAQS by December 31, 1995, which is the applicable attainment date for this nonattainment area.

A review of data input to AQS indicates that Truckee Meadows has continued to attain the CO NAAQS since the end of 1995. The highest 8-hour and 1-hour CO concentrations measured at the various monitoring stations during the 1996 through 2003 period were 9 ppm and 12 ppm, respectively (both at the Reno-Galletti station in 1997), which do not exceed the corresponding CO NAAQS of 9 ppm and 35 ppm, respectively. A “quick look” report generated using AQS for the WCAQMD CO monitoring stations for the 1994 to 2003 period is included in the docket for this rulemaking. Thus, in conclusion, we propose to find that Truckee Meadows has attained the CO NAAQS by the applicable attainment date (1995) and has continued to attain since that time.

III. EPA's Proposed Action

EPA proposes to find, pursuant to sections 179(c)(1), 181(b)(2), and 186(b)(2) of the Act, that the Washoe County “marginal” ozone nonattainment area has attained the 1-hour ozone NAAQS by the applicable attainment date (1993) and has continued to attain the 1-hour ozone NAAQS since then, and that the Truckee Meadows “moderate” CO nonattainment area in Washoe County has attained the CO NAAQS by the applicable attainment date (1995) and has continued to attain the CO NAAQS since then. If finalized as proposed, our action will relieve the State of Nevada from the obligation to revise the SIP to comply with CAA requirements related to the next higher ozone and CO classifications for these nonattainment areas.

It should be noted that this proposed action does not represent a proposal to redesignate Washoe County from “nonattainment” to “attainment” for the 1-hour ozone NAAQS nor does it represent a proposal to redesignate Truckee Meadows from “nonattainment” to “attainment” for the CO NAAQS. Under section 107(d)(3)(E), the Clean Air Act requires that, for an area to be redesignated from nonattainment to attainment, five criteria must be satisfied. The attainment findings herein satisfy one of the five criteria, but other criteria, such as the submittal by the State (and approval by EPA) of a maintenance plan, must also be satisfied before EPA can redesignate an area from nonattainment to attainment. Therefore, the designation status in 40 CFR part 81, section 329 (81.329) will remain as marginal nonattainment for the 1-hour ozone NAAQS (Washoe County) and moderate nonattainment for the CO NAAQS (Truckee Meadows) until such time as the State of Nevada meets the CAA requirements for redesignations to attainment.

IV. Request for Public Comment

We are soliciting public comment on all aspects of this proposal. These comments will be considered before taking final action. To comment on today's proposal, you should submit comments by mail or in person (in triplicate if possible) to the ADDRESSES section listed in the front of this document. Your comments must be received by February 22, 2005 to be considered in the final action taken by EPA.

V. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to find that an area has attained a national ambient air quality standard based on an objective review of measured air quality data. If finalized, it would not impose any new regulations, mandates, or additional enforceable duties on any public, nongovernmental, or private entity. Accordingly, the Administrator certifies that this proposed rule will not have a significant economic impact on a substantial number of small entities under the Regulatory Flexibility Act (5 U.S.C. 601 et seq.). Because this proposed rule does not impose any additional enforceable duty, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to find that an area has attained a national ambient air quality standard, and does not alter the relationship or the distribution of power and responsibilities established in the Clean Air Act. This proposed rule also is not subject to Executive Order 13045 “Protection of Children from Environmental Health Risks and Safety Risks” (62 FR 19885, April 23, 1997), because it is not economically significant.

This proposed rule does not involve establishment of technical standards, and thus, the requirements of section 12(d) of the National Technology Transfer and Advancement Act of 1995 (15 U.S.C. 272 note) do not apply. This proposed rule does not impose an information collection burden under the provisions of the Paperwork Reduction Act of 1995 (44 U.S.C. 3501 et seq.)

Authority: 42 U.S.C. 7401 et seq.

List of Subjects in 40 CFR Part 81

Environmental protection, Air pollution control, National parks, Wilderness areas.

Dated: January 7, 2005.
Laura Yoshii,
Acting Regional Administrator, Region IX.

[FR Doc. 05-1118 Filed 1-19-05; 8:45 am]

BILLING CODE 6560-50-P